DEPARTMENT OF HEALTH AND HUMAN SERVICES

National Institutes of Health

Notice of Correction for Announcement of Requirements and Registration for: “Harnessing Insights From Other Disciplines To Advance Drug Abuse and Addiction Research” Challenge

The National Institutes of Health (NIH) is correcting a notice previously published in the Federal Register on May 26, 2015 (80 FR 30084) and titled “Announcement of Requirements and Registration for: “Harnessing Insights From Other Disciplines To Advance Drug Abuse and Addiction Research” Challenge.” The notice announced a National Institute on Drug Abuse (NIDA) challenge soliciting ideas on how to adapt specialized knowledge from other disciplines to inform new directions and discoveries in drug abuse and addiction research.

NIH is amending the submission date for the challenge from June 22, 2015 to June 30, 2015, the Judging period from June 23, 2015-July 17, 2015 to July 1, 2015-July 24, 2015, and winners announced date from July 30, 2015 to August 6, 2015.

For further information about the Challenge, please contact Emily Einstein, Ph.D. Science Policy Branch, NIDA, Phone 301-443-6071, email: emily.einstein@nih.gov.

Dated: May 27, 2015.
Nora D. Volkow,
Director, National Institute on Drug Abuse National Institutes of Health.

[FR Doc. 2015-13348 Filed 6-1-15; 8:45 am]

BILLING CODE 4140-01-P